DEPARTMENT OF STATE

[Public Notice 8407]

Waiver of Restriction on Assistance to the Central Government of Tajikistan

Pursuant to Section 7031(b)(3) of the Department of State, Foreign Operations, and Related Programs Appropriations Act, 2012 (Div. I, Pub. L.112-74) (“the Act”), as carried forward by the Further Continuing Appropriations Act, 2013 (Div. F, Pub. L. 113-6), and Department of State Delegation of Authority Number 245-1, I hereby determine that it is important to the national interest of the United States to waive the requirements of Section 7031(b)(1) of the Act and similar provisions of law in prior year Acts with respect to Tajikistan, and I hereby waive this restriction.

This determination and the accompanying Memorandum of Justification shall be reported to the Congress, and the determination shall be published in the Federal Register.

Dated: Jun 17, 2013.
William J. Burns,
Deputy Secretary of State.

[FR Doc. 2013-18859 Filed 8-2-13; 8:45 am]

BILLING CODE 4710-46-P